DEPARTMENT OF EDUCATION

National Assessment Governing Board

Meeting

AGENCY: National Assessment Governing Board, Department of Education.

ACTION: Notice of open and closed virtual meetings.

SUMMARY: This notice sets forth the agenda for National Assessment Governing Board (hereafter referred to as Governing Board) meetings scheduled on multiple dates starting on March 1, 2021 and ending on March 5, 2021. This notice provides information to members of the public who may be interested in accessing the virtual meeting and/or providing written comments related to the work of the Governing Board. Notice of the full Board meeting is required under the Federal Advisory Committee Act (FACA). This notice is being published less than 15 days prior to the meeting due to delays in finalizing the meeting agenda, which was dependent on deliberations of the Governing Board's standing committees. This notice is being published less than 15 days prior to the meeting due to delays in finalizing the meeting agenda, which was dependent on deliberations of the Governing Board's standing committees. Due to the COVID-19 pandemic, there were significant delays in scheduling the standing committee meetings.

Standing Committee Meetings

The Governing Board's standing committees will meet to conduct regularly scheduled work on various dates from March 1-3, 2021 based on ongoing committee agenda topics and follow-up activities as reported in the Governing Board's committee meeting minutes available at https://www.nagb.gov/governing-board/quarterly-board-meetings.html.

Four standing committee meetings will convene prior to the March 4-5, 2021 plenary sessions of the Governing Board meeting. Meeting agendas will be posted at www.nagb.gov no later than February 26, 2021. All meetings are convened in Eastern Time.

Monday, March 1, 2021, Reporting & Dissemination Committee, 10:00 a.m.-12:15 p.m.

Tuesday, March 2, 2021, Committee on Standards, Design & Methodology, 2:00 p.m.-3:50 p.m.

Wednesday, March 3, 2021, Executive Committee, 11:00 a.m.-1:00 p.m.

Wednesday, March 3, 2021, Assessment Development Committee: 5:15 p.m.-7:45 p.m.

The plenary sessions of the March 4-5, 2021 quarterly meeting of the Governing Board will be held on the following dates and times:

Thursday, March 4, 2021: Open Meeting: 12:15-5:30 p.m. (EST)

Friday, March 5, 2021: Closed Meetings: 12:00-1:50 p.m. (EST); Open Meeting: 1:55-5:30 p.m.

March 4, 2021: Open Meeting:

On Thursday, March 4, 2021, the Governing Board will meet in open session from 12:15 p.m. to 5:30 p.m.

From 12:15 p.m. to 12:30 p.m. Chair Haley Barbour will welcome members; review and approve the March 4-5, 2021 quarterly Governing Board meeting agenda and approve minutes from the November 19-20, 2020 quarterly Governing Board meeting. The Governing Board will then take action on a release plan for the 2019 National Assessment of Educational Progress (NAEP) Science Report Card.

From 12:30 p.m. to 1:30 p.m. two updates on ongoing work will be provided. Mark Schneider, Director of the Institute of Education Sciences, will provide an update and Lesley Muldoon, Executive Director of the Governing Board, will update the Governing Board ongoing work.

From 1:30 p.m. to 3:00 p.m. the Governing Board will discuss if and how NAEP can play a role in national conversations and actions to create more equitable outcomes for students. This discussion will be led by a panel of experts who will reflect on recommendations developed by a Committee convened by the National Academies of Sciences, Engineering, and Medicine on Developing Indicators of Educational Equity.

After a 15-minute break, from 3:15 p.m. to 5:30 p.m. the Governing Board will convene a symposium on Reading Comprehension in Large-Scale Assessment. The symposium will be moderated by Patrick Kelly, Governing Board member, and include the participation of several reading experts. The March 4, 2021 session of the Governing Board meeting will adjourn at 5:30 p.m.

March 5, 2021: Closed Meetings:

On Friday, March 5, 2021, the Governing Board meeting will convene in two closed sessions from 12:00 p.m. to 1:50 p.m. Eastern Time.

During the first closed session convened from 12:00 p.m. to 12:30 p.m. the Governing Board will receive a briefing from the Nominations Committee on its recommendations for candidates to fill board vacancies. The Governing Board will review the recommendations for the final slate of candidates for submission to the Secretary of Education for appointments that begin October 1, 2021. These discussions pertain solely to internal personnel rules and practices of an agency and information of a personal nature where disclosure would constitute a clearly unwarranted invasion of personal privacy. As such, the discussions are protected by exemptions 2 and 6 of § 552b(c) of Title 5 of the United States Code. The Governing Board will take a short break to transition to the next closed session.

On Friday, March 5, 2021, the second closed session will take place from 12:35 p.m. to 1:50 p.m. Peggy Carr, Associate Commissioner, National Center for Education Statistics, will provide a briefing on the NAEP Budget and Assessment Schedule. The briefing and Governing Board discussions may impact current and future NAEP contracts and budgets and must be kept confidential to maintain the integrity of the federal acquisition process. Public disclosure of this confidential information would significantly impede implementation of the NAEP assessment program if conducted in open session. Such matters are protected by exemption 9(B) of § 552b(c) of Title 5 of the United States Code.

The Governing Board will meet in open session thereafter, from 1:55 p.m. to 5:30 p.m. From 1:55 p.m. to 2:00 p.m., the Governing Board will discuss and take action on two agenda items—an updated NAEP Assessment Schedule and on finalists for Governing Board vacancies for terms that will begin on October 1, 2021 for submission to the Secretary of Education for consideration and appointment.

From 2:00 p.m. to 3:15 p.m., the Governing Board will receive updates from two standing Task Forces established by the Governing Board—the Council of Chief State School Officers State Policy Task Force and the Council of Great City Schools Trial Urban District Assessment (TUDA) Policy Task Force. Following a 15-minute break, the Governing Board will meet from 3:30 p.m. to 5:25 p.m. to receive a briefing on the NAEP Reading Framework and engage in policy discussions.

From 5:25 p.m. to 5:30 p.m. the Governing Board Chair Haley Barbour and Lesley Muldoon, Governing Board Executive Director, will discuss next steps and provide concluding remarks. The March 5, 2021 session of the Governing Board meeting will adjourn at 5:30 p.m. The Quarterly Board meeting and committee meeting agendas, together with meeting materials shall be posted on the Governing Board's website at www.nagb.gov no later than Friday, February 26, 2021. Participation in all open sessions will be available via online registration only at www.nagb.gov 5 working days prior to each meeting.

ADDRESSES: Virtual Meetings.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Pub. L. 107-279. Information on the Governing Board and its work can be found at www.nagb.gov.

The Governing Board is established to formulate policy for the National Assessment of Educational Progress (NAEP) administered by the National Center for Education Statistics (NCES). The Governing Board's responsibilities include the following: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Written comments related to the work of the Governing Board may be submitted electronically or in hard copy to the attention of the Executive Officer/Designated Federal Official (see contact information noted above).

Public Participation: The public may access and participate in the open sessions of the meeting via advance registration. A link to the registration page will be posted on www.nagb.gov five working days prior to each meeting date.

Access to Records of the Meeting: Pursuant to FACA requirements, the public may also inspect the meeting materials at www.nagb.gov five working days prior to each meeting. The official verbatim transcripts of the public meeting sessions will be available for public inspection no later than 30 calendar days following each meeting.

Reasonable Accommodations: The meeting is accessible to individuals with disabilities. If you will need an auxiliary aid or service to participate in the meeting (e.g., interpreting service, assistive listening device, or materials in an alternate format), notify the contact person listed in this notice no later than ten working days prior to each meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U. S. Department of Education.

[FR Doc. 2021-04288 Filed 3-1-21; 8:45 am]

BILLING CODE 4000-01-P